DEPARTMENT OF THE INTERIOR

National Park Service

Notice of Intent To Repatriate a Cultural Item: Southwest Museum of the American Indian, Autry National Center of the American West, Los Angeles, CA

AGENCY: National Park Service, Interior.

ACTION: Notice.

Notice is here given in accordance with the Native American Graves Protection and Repatriation Act (NAGPRA), 25 U.S.C. 3005, of the intent to repatriate a cultural item in the possession of the Southwest Museum of the American Indian, Autry National Center of the American West, Los Angeles, CA, that meets the definition of “sacred object” under 25 U.S.C. 3001.

This notice is published as part of the National Park Service's administrative responsibilities under NAGPRA, 25 U.S.C. 3003 (d)(3). The determinations in this notice are the sole responsibility of the museum, institution, or Federal agency that has control of the cultural items. The National Park Service is not responsible for the determinations in this notice.

The one cultural item is a wooden Kickapoo Prayer Stick (object number 2006.85.11). There are symbolic images on the front of the stick and a sticker on the back reads “Kickapoo Indians/from Kansas/Prayer stick.” The museum acquired the cultural item from an anonymous donor in 2006. In an unknown year, the donor received the object from a Mr. Robert Babcock, owner of an “Indian Curio” shop located in Beverly Hills, CA. It is unknown how Mr. Babcock obtained the cultural item.

The Prayer Stick is used in the Kennekuk religion, which is one of the traditional religions of the Kickapoo Tribe of Indians of the Kickapoo Reservation in Kansas. The Kennekuk religion is derived from a tribal bandleader, Kennekuk, who began the religion in the early 19th century. The Kickapoo are originally from the Ohio and Southern Michigan area between Lake Erie and Lake Michigan. From the mid 1600s to the early 1800s, the Kickapoo tribe moved west to Indiana and then to Illinois. In the early 1800s, many Kickapoo bands traveled to various places within the United States and Northern Mexico. Kennekuk remained in western Illinois with his followers. In 1832, his band along with another band from Missouri signed the Treaty of Castor Hill, which created a reservation in northeastern Kansas. The Missouri band eventually left the reservation, while Kennekuk's band remained. Thus, this religion and this Prayer Stick is specific to the Kickapoo Tribe of Indians of the Kickapoo Reservation in Kansas.

The symbols on the Prayer Stick represent prayers said by religious leaders and Kennekuk followers for individuals, other members of the religion, and tribal members. This object is intricately tied to the practice of the Kennekuk religion. Additionally, the icons are also derived from Kickapoo traditional culture. During consultation, members of the Kennekuk religion have identified this Prayer Stick as authentic and needed for the continual use of the religion.

Officials of the Southwest Museum of the American Indian, Autry National Center of the American West have determined that, pursuant to 25 U.S.C. 3001 (3)(C), the one cultural item described above is a specific ceremonial object needed by traditional Native American religious leaders for the practice of traditional Native American religions by their present-day adherents. Officials of the Southwest Museum of the American Indian, Autry National Center of the American West also have determined that, pursuant to 25 U.S.C. 3001 (2), there is a relationship of shared group identity that can be reasonably traced between the sacred object and the Kickapoo Tribe of Indians of the Kickapoo Reservation in Kansas.

Representatives of any other Indian tribe that believes itself to be culturally affiliated with the sacred object should contact LaLena Lewark, NAGPRA Senior Coordinator, Southwest Museum of the American Indian, Autry National Center of the American West, 4700 Western Heritage Way, Los Angeles, CA 90027, telephone (323) 667-2000, extension 220, or Steven M. Karr, Ph.D., Ahmanson Curator of History and Culture and Interim Executive Director for the Southwest Museum of the American Indian, Autry National Center of the American West, 234 Museum Drive, Los Angeles, CA 90065, telephone (323) 221-2164, before April 24, 2009. Repatriation of the sacred object to the Kickapoo Tribe of Indians of the Kickapoo Reservation in Kansas may proceed after that date if no additional claimants come forward.

The Southwest Museum of the American Indian, Autry National Center of the American West is responsible for notifying the Kickapoo Tribe of Indians of the Kickapoo Reservation in Kansas, Kickapoo Tribe of Oklahoma, and Kickapoo Traditional Tribe of Texas that this notice has been published.

Dated: March 6, 2009
Sherry Hutt,
Manager, National NAGPRA Program.

[FR Doc. E9-6511 Filed 3-24-09; 8:45 am]

BILLING CODE 4312-50-S